DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of November 19, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: October 9, 2014.
Roy E. Wright,
Deputy Associate Administrator for Mitigation, Department of Homeland Security, Federal Emergency Management Agency.

Community | Community map repository address
Hamilton County, Indiana, and Incorporated Areas
Docket No.: FEMA-B-1281
City of Carmel | Department of Community Services, One Civic Square, Carmel, IN 46032.
City of Noblesville | City Hall, Department of Planning and Zoning, 16 South 10th Street, Noblesville, IN 46060.
City of Westfield | City Hall, 130 Penn Street, Westfield, IN 46074.
Town of Cicero | Utility Office, 150 West Jackson Street, Cicero, IN 46034.
Town of Fishers | Administrative Offices, One Municipal Drive, Fishers, IN 46038.
Town of Sheridan | Town Hall, 506 South Main Street, Sheridan, IN 46069.
Unincorporated Areas of Hamilton County | Hamilton County Government and Judicial Center, One Hamilton County Square, Noblesville, IN 46060.
Jackson County, Indiana, and Incorporated Areas
Docket No.: FEMA-B-1342
City of Seymour | Department of Planning and Zoning, 301 North Chestnut Street, Seymour, IN 47274.
Town of Brownstown | Town Hall, 200 West Walnut Street, Brownstown, IN 47220.
Town of Crothersville | Town Hall, 111 East Howard Street, Crothersville, IN 47229.
Town of Medora | Town Hall, 27 North Perry Street, Medora, IN 47260.
Unincorporated Areas of Jackson County | Jackson County Courthouse, 111 South Main Street, Brownstown, IN 47220.
Calvert County, Maryland and Incorporated Areas
Docket No.: FEMA-B-1322
Town of Chesapeake Beach | Town Hall, 8200 Bayside Road, Chesapeake Beach, MD 20732.
Town of North Beach | Town Hall, 8916 Chesapeake Avenue, North Beach, MD 20714.
Unincorporated Areas of Calvert County | Calvert County Planning Department, 150 Main Street, Suite 300, Prince Frederick, MD 20678.
St. Mary's County, Maryland and Incorporated Areas
Docket No.: FEMA-B-1322
Town of Leonardtown | Town Hall, 41660 Courthouse Drive, Leonardtown, MD 20650.
Unincorporated Areas of St. Mary's County | St. Mary's County Planning Department, 23150 Leonard Hall Drive, Leonardtown, MD 20650.
Freeborn County, Minnesota, and Incorporated Areas
Docket No.: FEMA-B-1310
City of Albert Lea | City Hall, 221 East Clark Street, Albert Lea, MN 56007.
City of Emmons | City Hall, 219 Main Street, Emmons, MN 56029.
City of Glenville | City Hall, 221 West Main Street, Glenville, MN 56036.
City of Hollandale | Government Center, 110 Park Avenue West, Hollandale, MN 56045.
City of Twin Lakes | City Hall, 101 Main Street West, Twin Lakes, MN 56089.
Unincorporated Areas of Freeborn County | Freeborn County Government Center, 411 South Broadway, Albert Lea, MN 56007.
Erie County, Ohio, and Incorporated Areas
Docket No.: FEMA-B-1342
City of Huron | Huron Township Station, 1820 Bogart Road, Huron, OH 44839.
City of Sandusky | City Hall, 222 Meigs Street, Sandusky, OH 44870.
Unincorporated Areas of Erie County | Erie Regional Planning Commission, 2900 Columbus Avenue, Sandusky, OH 44870.
Village of Berlin Heights | Village of Berlin Heights, 8 West Main Street, Berlin Heights, OH 44814.
Village of Milan | Adminstration Office, 11 South Main Street, Milan, OH 44846.
Gloucester County, Virginia (All Jurisdictions)
Docket No.: FEMA-B-1332
Unincorporated Areas of Gloucester County | Gloucester County Office of Community Development, 6489 Main Street, Building 2, Gloucester, VA 23061.

[FR Doc. 2014-25393 Filed 10-24-14; 8:45 am]

BILLING CODE 9110-12-P